DEPARTMENT OF ENERGY

Federal Energy Regulatory Commission

Combined Notice of Filings #1

July 28, 2010.

Take notice that the Commission received the following electric rate filings:

Docket Numbers: ER03-534-010.

Applicants: Ingenco Wholesale Power, LLC.

Description: Errata to Notice of Change in Status of Ingenco Wholesale Power, LLC.

Filed Date: 07/27/2010.

Accession Number: 20100727-5118.

Comment Date: 5 p.m. Eastern Time on Tuesday, August 17, 2010.

Docket Numbers: ER08-770-004.

Applicants: Longview Power.

Description: Errata to Change-in-Status Notification of Longview Power, LLC.

Filed Date: 07/27/2010.

Accession Number: 20100727-5158.

Comment Date: 5 p.m. Eastern Time on Tuesday, August 17, 2010.

Docket Numbers: ER09-1051-004.

Applicants: ISO New England Inc.

Description: ISO New England et al submits a compliance filing to remove the Host Utility exceptions for demand response aggregators registering to participate in the Forward Capacity Market.

Filed Date: 07/27/2010.

Accession Number: 20100728-0205.

Comment Date: 5 p.m. Eastern Time on Tuesday, August 17, 2010.

Docket Numbers: ER10-1105-001.

Applicants: Pacific Gas and Electric Company.

Description: Pacific Gas and Electric Company submits its compliance filing to revise the Transmission Owner Tariff, FERC Electric Tariff Volume 5, to be effective 4/27/2010.

Filed Date: 07/28/2010.

Accession Number: 20100728-5006.

Comment Date: 5 p.m. Eastern Time on Wednesday, August 18, 2010.

Docket Numbers: ER10-1285-001.

Applicants: Craven County Wood Energy Limited Partnership.

Description: Craven County Wood Energy Limited Partnership submits tariff filing per 35: Revised Market-Based Baseline Tariff to be effective 7/29/2010.

Filed Date: 07/28/2010.

Accession Number: 20100728-5041.

Comment Date: 5 p.m. Eastern Time on Wednesday, August 18, 2010.

Docket Numbers: ER10-1999-000.

Applicants: Attala Transmission LLC.

Description: Attala Transmission LLC submits its baseline Open Access Transmission Tariff pursuant to the requirements of FERC's Order No 714, to be effective 7/28/2010.

Filed Date: 07/28/2010.

Accession Number: 20100728-5001.

Comment Date: 5 p.m. Eastern Time on Wednesday, August 18, 2010.

Docket Numbers: ER10-2000-000.

Applicants: Perryville Energy Partners LLC.

Description: Perryville Energy Partners LLC submits its baseline Open Access Transmission Tariff pursuant to the requirements of FERC's Order No 714, to be effective 7/28/2010.

Filed Date: 07/28/2010.

Accession Number: 20100728-5002.

Comment Date: 5 p.m. Eastern Time on Wednesday, August 18, 2010.

Docket Numbers: ER10-2001-000.

Applicants: Entergy Services, Inc.

Description: Revised Depreciation Rates of Entergy Services, Inc.

Filed Date: 07/27/2010.

Accession Number: 20100727-5159.

Comment Date: 5 p.m. Eastern Time on Tuesday, August 17, 2010.

Docket Numbers: ER10-2002-000.

Applicants: Northwestern Corporation.

Description: North Western submits the Electric Interconnection Service Agreement with Montana Refining Company, Inc.

Filed Date: 07/27/2010.

Accession Number: 20100728-0204.

Comment Date: 5 p.m. Eastern Time on Tuesday, August 17, 2010.

Docket Numbers: ER10-2003-000.

Applicants: Consolidated Edison Company of New York.

Description: Consolidated Edison Company of New York, Inc. submits tariff filing per 35: Baseline Filing of Con Edison Rate Schedule No. 96 to be effective 7/28/2010.

Filed Date: 07/28/2010.

Accession Number: 20100728-5028.

Comment Date: 5 p.m. Eastern Time on Wednesday, August 18, 2010.

Docket Numbers: ER10-2005-000.

Applicants: Ashtabula Wind II, LLC.

Description: Ashtabula Wind II, LLC submits tariff filing per 35.12: Ashtabula II Baseline Filing2 to be effective 7/28/2010.

Filed Date: 07/28/2010.

Accession Number: 20100728-5040.

Comment Date: 5 p.m. Eastern Time on Wednesday, August 18, 2010.

Docket Numbers: ER10-2006-000.

Applicants: Hawkeye Power Partners, LLC.

Description: Hawkeye Power Partners, LLC submits tariff filing per 35.12: Hawkeye Baseline Filing to be effective 7/28/2010.

Filed Date: 07/28/2010.

Accession Number: 20100728-5042.

Comment Date: 5 p.m. Eastern Time on Wednesday, August 18, 2010.

Docket Numbers: ER10-2007-000.

Applicants: PPL Brunner Island, LLC.

Description: PPL Brunner Island, LLC submits tariff filing per 35.12: PPL Brunner Island, LLC Baseline Filing to be effective 7/28/2010.

Filed Date: 07/28/2010.

Accession Number: 20100728-5077.

Comment Date: 5 p.m. Eastern Time on Wednesday, August 18, 2010.

Docket Numbers: ER10-2008-000.

Applicants: PPL Colstrip I, LLC.

Description: PPL Colstrip I, LLC submits tariff filing per 35.12: PPL Colstrip I, LLC, Baseline Filing to be effective 7/28/2010.

Filed Date: 07/28/2010.

Accession Number: 20100728-5078.

Comment Date: 5 p.m. Eastern Time on Wednesday, August 18, 2010.

Docket Numbers: ER10-2009-000.

Applicants: PPL Colstrip II, LLC.

Description: PPL Colstrip II, LLC submits tariff filing per 35.12: PPL Colstrip II, LLC, Baseline Filing to be effective 7/28/2010.

Filed Date: 07/28/2010.

Accession Number: 20100728-5079.

Comment Date: 5 p.m. Eastern Time on Wednesday, August 18, 2010.

Docket Numbers: ER10-2010-000.

Applicants: PPL Electric Utilities Corporation.

Description: PPL Electric Utilities Corporation submits its baseline filing of FERC Electric Tariff pursuant to Order No 714, to be effective 7/28/2010.

Filed Date: 07/28/2010.

Accession Number: 20100728-5080.

Comment Date: 5 p.m. Eastern Time on Wednesday, August 18, 2010.

Docket Numbers: ER10-2011-000.

Applicants: PPL EnergyPlus, LLC.

Description: PPL EnergyPlus, LLC submits its baseline filing of FERC Electric Tariff pursuant to Order No 714, to be effective 7/28/2010.

Filed Date: 07/28/2010.

Accession Number: 20100728-5081.

Comment Date: 5 p.m. Eastern Time on Wednesday, August 18, 2010.

Docket Numbers: ER10-2012-000.

Applicants: PPL Great Works, LLC.

Description: PPL Great Works, LLC submits its baseline filing of FERC Electric Tariff pursuant to Order No 714, to be effective 7/28/2010.

Filed Date: 07/28/2010.

Accession Number: 20100728-5082.

Comment Date: 5 p.m. Eastern Time on Wednesday, August 18, 2010.

Docket Numbers: ER10-2013-000.

Applicants: PPL Holtwood, LLC.

Description: PPL Holtwood, LLC submits its baseline filing of FERC Electric Tariff pursuant to Order No 714, to be effective 7/28/2010.

Filed Date: 07/28/2010.

Accession Number: 20100728-5083.

Comment Date: 5 p.m. Eastern Time on Wednesday, August 18, 2010.

Docket Numbers: ER10-2014-000.

Applicants: PPL Maine, LLC.

Description: PPL Maine, LLC submits its baseline filing of FERC Electric Tariff pursuant to Order No 714, to be effective 7/28/2010.

Filed Date: 07/28/2010.

Accession Number: 20100728-5084.

Comment Date: 5 p.m. Eastern Time on Wednesday, August 18, 2010.

Docket Numbers: ER10-2015-000.

Applicants: PPL Martins Creek, LLC.

Description: PPL Martins Creek, LLC submits tariff filing per 35.12: PPL Martins Creek, LLC, Baseline Filing to be effective 7/28/2010.

Filed Date: 07/28/2010.

Accession Number: 20100728-5086.

Comment Date: 5 p.m. Eastern Time on Wednesday, August 18, 2010.

Docket Numbers: ER10-2016-000.

Applicants: PPL Montana, LLC.

Description: PPL Montana, LLC submits tariff filing per 35.12: PPL Montana, LLC, Baseline Filing to be effective 7/28/2010.

Filed Date: 07/28/2010.

Accession Number: 20100728-5087.

Comment Date: 5 p.m. Eastern Time on Wednesday, August 18, 2010.

Docket Numbers: ER10-2017-000.

Applicants: PPL Montour, LLC.

Description: PPL Montour, LLC submits tariff filing per 35.12: PPL Montour, LLC, Baseline Filing to be effective 7/28/2010.

Filed Date: 07/28/2010.

Accession Number: 20100728-5088.

Comment Date: 5 p.m. Eastern Time on Wednesday, August 18, 2010.

Docket Numbers: ER10-2018-000.

Applicants: PPL New Jersey Biogas, LLC.

Description: PPL New Jersey Biogas, LLC submits tariff filing per 35.12: PPL New Jersey Biogas, LLC, Baseline Filing to be effective 7/28/2010.

Filed Date: 07/28/2010.

Accession Number: 20100728-5089.

Comment Date: 5 p.m. Eastern Time on Wednesday, August 18, 2010.

Docket Numbers: ER10-2019-000.

Applicants: PPL New Jersey Solar, LLC.

Description: PPL New Jersey Solar, LLC submits tariff filing per 35.12: PPL New Jersey Solar, LLC, Baseline Filing to be effective 7/28/2010.

Filed Date: 07/28/2010.

Accession Number: 20100728-5090.

Comment Date: 5 p.m. Eastern Time on Wednesday, August 18, 2010.

Docket Numbers: ER10-2020-000.

Applicants: PPL Renewable Energy, LLC.

Description: PPL Renewable Energy, LLC submits tariff filing per 35.12: PPL Renewable Energy, LLC, Baseline Filing to be effective 7/28/2010.

Filed Date: 07/28/2010.

Accession Number: 20100728-5091.

Comment Date: 5 p.m. Eastern Time on Wednesday, August 18, 2010.

Docket Numbers: ER10-2021-000.

Applicants: PPL Susquehanna, LLC.

Description: PPL Susquehanna, LLC submits tariff filing per 35.12: PPL Susquehanna, LLC, Baseline Filing to be effective 7/28/2010.

Filed Date: 07/28/2010.

Accession Number: 20100728-5092.

Comment Date: 5 p.m. Eastern Time on Wednesday, August 18, 2010.

Docket Numbers: ER10-2022-000.

Applicants: PPL University Park, LLC.

Description: PPL University Park, LLC submits tariff filing per 35.12: PPL University Park, LLC, Baseline Filing to be effective 7/28/2010.

Filed Date: 07/28/2010.

Accession Number: 20100728-5093.

Comment Date: 5 p.m. Eastern Time on Wednesday, August 18, 2010.

Docket Numbers: ER10-2023-000.

Applicants: California Independent System Operator Corporation.

Description: California Independent System Operator Corporation submits tariff filing per 35.12: 2010-07-28 Non-Conforming Service Agreements Tariff ID Filing to be effective 7/28/2010.

Filed Date: 07/28/2010.

Accession Number: 20100728-5094.

Comment Date: 5 p.m. Eastern Time on Wednesday, August 18, 2010.

Take notice that the Commission received the following land acquisition reports:

Docket Numbers: LA10-2-000.

Applicants: Order 697-C 2010 2nd Qtr Site Acquisition.

Description: Munnsville Wind Farm, LLC and Stony Creek Wind Farm, LLC 2010 Q2 Filing Per 18 CFR 35.42(d).

Filed Date: 07/28/2010.

Accession Number: 20100728-5038.

Comment Date: 5 p.m. Eastern Time on Wednesday, August 18, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport,ferc.gov. or call (866) 208-3676 (toll free). For TTY, call (202) 502-8659.

Nathaniel J. Davis, Sr.,
Deputy Secretary.

[FR Doc. 2010-19232 Filed 8-4-10; 8:45 am]

BILLING CODE 6717-01-P